DEPARTMENT OF VETERANS AFFAIRS

[OMB Control No. 2900-0570]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before March 25, 2002.

FOR FURTHER INFORMATION OR A COPY OF THE SUBMISSION CONTACT: Denise McLamb, Information Management Service (045A4), Department of Veterans Affairs, 810 Vermont Avenue, NW, Washington, DC 20420, (202) 273-8030, FAX (202) 273-5981 or e-mail: denise.mclamb@mail.va.gov. Please refer to “OMB Control No. 2900-0570.”

SUPPLEMENTARY INFORMATION:

Title: Generic Clearance for the Veterans Health Administration Customer Satisfaction Surveys.

OMB Control Number: 2900-0570.

Type of Review: Revision of a currently approved collection.

Abstract: Executive Order 12862, Setting Customer Service Standards, requires Federal agencies and departments to identify and survey its customers to determine the kind and quality of services they want and their level of satisfaction with existing services. VHA uses customer surveys to gauge customer perceptions of VA services as well as customer expectations and desires. The results of these information collections lead to improvements in the quality of VHA service delivery by helping to shape the direction and focus of specific programs and services.

An agency may not conduct or sponsor, and a person is not required to respond to a collection of information unless it displays a currently valid OMB control number. The Federal Register Notice with a 60-day comment period soliciting comments on this collection of information was published on December 10, 2001, on pages 63747-63748.

Affected Public: Individuals or households.

Listing of Survey Activities

I. Special Emphasis Programs

The following list of activities is a compendium of customer satisfaction survey plans by VHA. Different special emphasis programs will be surveyed annually; however, program selections have not been made for FYs 2002-2004. Burden hours for the out-years are based on FY 2001 estimates (Burden hours per respondent: 15 minutes).

Year | Number of respondents | Estimated annual burden | Frequency
2002 | 50,000 | 12,500 hours | Annually.
2003 | 50,000 | 12,500 hours | Annually.
2004 | 50,000 | 12,500 hours | Annually.

II. Local Facilities Surveys

Year | Number of respondents | Estimated annual burden | Frequency
2002 | 288,780 | 62,569 hours | One-time.
2003 | 288,780 | 62,569 hours | One-time.
2004 | 288,780 | 62,569 hours | One-time.

Most customer satisfaction surveys will be recurring so that VHA can create ongoing measures of performance and to determine how well the Agency meets customer service standards. Each collection of information will consist of the minimum amount of information necessary to determine customer needs and to evaluate VHA's performance. VHA expects to distribute written surveys with a total annual burden of approximately 75,069 hours in FYs 2002, 2003, and 2004 (Burden hours per respondent: 13 minutes).

Send comments and recommendations concerning any aspect of the information collection to VA's OMB Desk Officer, OMB Human Resources and Housing Branch, New Executive Office Building, Room 10235, Washington, DC 20503 (202) 395-7316. Please refer to “OMB Control No. 2900-0570” in any correspondence.

Dated: February 8, 2002.
By direction of the Secretary.
Barbara H. Epps,
Management Analyst, Information Management Service.

[FR Doc. 02-4126 Filed 2-20-02; 8:45 am]

BILLING CODE 8320-01-P